DEPARTMENT OF HOMELAND SECURITY

Coast Guard

33 CFR Part 117

[Docket No. USCG-2014-0486]

Drawbridge Operation Regulation; Trent River, New Bern, NC

AGENCY: Coast Guard, DHS.

ACTION: Notice of Deviation from Drawbridge Regulation.

SUMMARY: The Coast Guard has issued a temporary deviation from the operating schedule that governs the US 70/Alfred C. Cunningham Bridge across the Trent River, mile 0.0, at New Bern, NC. The deviation is necessary to ensure the safety of attendees to the Mumfest celebration. The deviation allows the bridge draw span to open every two hours, on the hour, during the deviation period to accommodate the free movement of pedestrians and vehicles during the annual Mumfest celebration.

DATES: This deviation is effective from 9 a.m. to 7 p.m. on October 11, 2014 and from 9 a.m. to 5 p.m. on October 12, 2014.

ADDRESSES: The docket for this deviation, USCG-2014-0486 is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or e-mail Mrs. Jessica Shea, Bridge Management Specialist, Fifth Coast Guard District, telephone (757) 398-6422, email jessica.c.shea@uscg.mil. If you have questions on viewing the docket, call Cheryl Collins, Program Manager, Docket Operations, telephone 202-366-9826.

SUPPLEMENTARY INFORMATION: The Event Director for the New Bern Mumfest, with approval from the North Carolina Department of Transportation, owner of the drawbridge, has requested a temporary deviation from the current operating regulations set out in 33 CFR 117.843(a) to accommodate safe passage for pedestrians and vehicles during Mumfest.

The US 70/Alfred C. Cunningham Bridge across the Trent River, mile 0.0, a double bascule lift Bridge, in New Bern, NC, has a vertical clearance in the closed position of 14 feet, above mean high water. Under the normal operating schedule, the US 70/Alfred C. Cunningham Bridge would open on signal during this timeframe. However, under this temporary deviation, the drawbridge will only be allowed to open every two hours, on the hour, starting at 9 a.m. and continuing until 7 p.m. on Saturday, October 11, 2014; and from 9 a.m. to 5 p.m., on Sunday, October 12, 2014 to accommodate the New Bern Mumfest.

Vessels able to pass under the closed span may do so. Mariners are advised to proceed with caution. There are no alternate routes for vessels and the bridge will be able to open in the event of an emergency. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: June 11, 2014.
Waverly W. Gregory, Jr.,
Bridge Program Manager, Fifth Coast Guard District.

[FR Doc. 2014-14487 Filed 6-19-14; 8:45 am]

BILLING CODE 9110-04-P